DEPARTMENT OF ENERGY

Federal Energy Regulatory Commission

[Project No. 2524-018—Oklahoma Salina Pumped Storage Project]

Grand River Dam Authority; Notice of Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Oklahoma Historical Society (Oklahoma SHPO) and the Advisory Council on Historic Preservation (Advisory Council) pursuant to the Advisory Council's regulations, 36 CFR part 800, implementing section 106 of the National Historic Preservation Act, as amended, (16 U.S.C. 470 f), to prepare a programmatic agreement for managing properties included in, or eligible for inclusion in, the National Register of Historic Places that could be affected by issuance of a new license for the Salina Pumped Storage Project No. 2524.

The programmatic agreement, when executed by the Commission, the Oklahoma SHPO, and the Advisory Council, would satisfy the Commission's section 106 responsibilities for all individual undertakings carried out in accordance with the license until the license expires or is terminated (36 CFR 800.13(e)). On March 28, 2011, the Commission staff established a restricted service list for the Salina Pumped Storage Project. Because Dr. Timothy G. Baugh, Historical Archaeologist, Oklahoma Historical Society, retired, the restricted service list is revised to remove his name.

Dated: September 20, 2012.
Kimberly D. Bose,
Secretary.

[FR Doc. 2012-23804 Filed 9-26-12; 8:45 am]

BILLING CODE 6717-01-P